DEPARTMENT OF ENERGY

Federal Energy Regulatory Commission

[Project No. 13581-000]

FFP Qualified Hydro 16 LLC; Notice of Preliminary Permit Application Accepted for Filing and Soliciting Comments, Motions To Intervene, and Competing Applications

December 29, 2009.

On September 4, 2009, FFP Qualified Hydro 16 LLC filed an application for a preliminary permit, pursuant to section 4(f) of the Federal Power Act, proposing to study the feasibility of the Fulton Lock and Dam Hydroelectric Project, located on the Tennessee-Tombigbee Waterway, in Itawamba County, Mississippi. The sole purpose of a preliminary permit, if issued, is to grant the permit holder priority to file a license application during the permit term. A preliminary permit does not authorize the permit holder to perform any land disturbing activities or otherwise enter upon lands or waters owned by others without the owners' express permission.

The proposed project would consist of the following:

(1) A 40-ft by 150-ft long power canal; (2) a 50-ft by 40-ft powerhouse; (3) a new 3 MVA substation; (4) a 1,400-ft long transmission line; (5) 200 feet of new access roads; and (6) appurtenant facilities. The proposed Fulton Lock and Dam Hydroelectric Project would have an average annual generation of 11 gigawatt-hours.

Applicant Contact: Ramya Swaminathan, Free Flow Power Corporation, 33 Commercial Street, Gloucester, MA 01930.

FERC Contact: Allyson Conner, 202-502-6082.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13581) in the docket number field to access the document. For assistance, contact FERC Online Support.

Kimberly D. Bose,
Secretary.

[FR Doc. E9-31329 Filed 1-4-10; 8:45 am]

BILLING CODE 6717-01-P